DEPARTMENT OF COMMERCE

National Oceanic and Atmospheric Administration

50 CFR Part 679

[Docket No. 250312-0037; RTID 0648-XF346]

Fisheries of the Exclusive Economic Zone Off Alaska; Reallocation of Pacific Cod in the Western Regulatory Area of the Gulf of Alaska

AGENCY: National Marine Fisheries Service (NMFS), National Oceanic and Atmospheric Administration (NOAA), Commerce.

ACTION: Temporary rule; reallocation.

SUMMARY: NMFS is reallocating the projected unused amounts of Pacific cod from catcher vessels using trawl gear to catcher vessels using hook-and-line gear and vessels using pot gear in the Western Regulatory Area of the Gulf of Alaska (GOA). This action is necessary to allow the 2025 total allowable catch (TAC) of Pacific cod to be harvested.

DATES: Effective December 15, 2025, through 2400 hours, Alaska local time (A.l.t.), December 31, 2025.

FOR FURTHER INFORMATION CONTACT: Adam Zaleski, 907-586-7228.

SUPPLEMENTARY INFORMATION: NMFS manages the groundfish fishery in the GOA according to the Fishery Management Plan for Groundfish of the Gulf of Alaska (FMP) prepared and recommended by the North Pacific Fishery Management Council under authority of the Magnuson-Stevens Fishery Conservation and Management Act (Magnuson-Stevens Act). Regulations governing fishing by U.S. vessels in accordance with the FMP appear at subpart H of 50 CFR part 600 and 50 CFR part 679.

The 2025 Pacific cod TAC allocated to catcher vessels using trawl gear in the Western Regulatory Area of the GOA is 2,260 metric tons (mt), as established by the final 2025 and 2026 harvest specifications for groundfish in the GOA (90 FR 12468, March 18, 2025).

The 2025 Pacific cod TAC allocated to catcher vessels using hook-and-line gear in the Western Regulatory Area of the GOA is 82 mt, as established by the final 2025 and 2026 harvest specifications for groundfish in the GOA (90 FR 12468, March 18, 2025).

The 2025 Pacific cod TAC allocated to vessels using pot gear in the Western Regulatory Area of the GOA is 2,236 mt, as established by the final 2025 and 2026 harvest specifications for groundfish in the GOA (90 FR 12468, March 18, 2025).

The Administrator, Alaska Region, NMFS (the Administrator) has determined that catcher vessels using trawl gear will not be able to harvest 220 mt of the 2025 Pacific cod TAC allocated to those vessels under § 679.20(a)(12)(i)(A)(3). The Administrator, has also determined that catcher vessels using hook-and-line gear and vessels using pot gear have the capability to harvest additional Pacific cod TAC.

Therefore, in accordance with § 679.20(a)(12)(ii)(B), NMFS apportions 70 mt of Pacific cod from catcher vessels using trawl gear to the annual amount specified for catcher vessels using hook-and-line gear and 150 mt of Pacific cod from catcher vessels using trawl gear to the annual amount specified for vessels using pot gear.

The harvest specifications for 2025 Pacific cod TAC allocated to vessels in the Western Regulatory Area of the GOA included in the final 2025 and 2026 harvest specifications for groundfish in the GOA (90 FR 12468, March 18, 2025) is revised as follows: 2,040 mt to catcher vessels using trawl gear, 152 mt to catcher vessels using hook-and-line gear, and 2,386 mt to vessels using pot gear.

Classification

NMFS issues this action pursuant to section 305(d) of the Magnuson-Stevens Act. This action is required by 50 CFR part 679, which was issued pursuant to section 304(b) of the Magnuson-Stevens Act, and is exempt from review under Executive Order 12866.

Pursuant to 5 U.S.C. 553(b)(B), there is good cause to waive prior notice and an opportunity for public comment on this action, as notice and comment would be impracticable and contrary to the public interest, as it would prevent NMFS from responding to the most recent fisheries data in a timely fashion and would not allow for the full harvest of the Pacific cod TACs by the sectors with harvesting capability. NMFS was unable to publish a notice providing time for public comment because the most recent, relevant data on the harvest of Pacific cod by sectors operating in the Western Regulatory Area of the GOA and the capability of certain sectors to harvest additional TAC only became available as of December 8, 2025.

There is good cause under 5 U.S.C. 553(d)(3) to make this action effective immediately upon filing with the Office of the Federal Register. This finding is based upon the reasons provided above for waiver of prior notice and opportunity for public comment.

Authority: 16 U.S.C. 1801 et seq.

Dated: December 11, 2025.
Kelly Denit,
Director, Office of Sustainable Fisheries, National Marine Fisheries Service.

[FR Doc. 2025-22854 Filed 12-15-25; 8:45 am]

BILLING CODE 3510-22-P